SECURITIES AND EXCHANGE COMMISSION

[Release No. 34-72866; File No. SR-CBOE-2014-050]

Self-Regulatory Organizations; Chicago Board Options Exchange, Incorporated; Notice of Withdrawal of Proposed Rule Change Relating to Trade Nullification and Price Adjustment

August 19, 2014.

On June 3, 2014, Chicago Board Options Exchange, Incorporated (“CBOE”) filed with the Securities and Exchange Commission (“Commission”) a proposed rule change pursuant to Section 19(b)(1) of the Securities Exchange Act of 1934 ¹ and Rule 19b-4 thereunder ² to add new Rule 6.19, “Trade Nullification and Price Adjustment Procedure,” and to make certain conforming administrative changes to streamline the rules governing trade nullification and adjustments. The proposed rule change was published for comment in the Federal Register on June 19, 2014.³ The Commission received no comments on the proposal. On July 31, 2014, CBOE extended the time period for Commission action to August 18, 2014.

¹ 15 U.S.C. 78s(b)(1).

² 17 CFR 240.19b-4.

³ Securities Exchange Act Release No. 72390 (June 13, 2014), 79 FR 35198.

On August 15, 2014, CBOE withdrew the proposed rule change (SR-CBOE-2014-050).

For the Commission, by the Division of Trading and Markets, pursuant to delegated authority.⁴
Kevin M. O'Neill,
Deputy Secretary.

⁴ 17 CFR 200.30-3(a)(12).

[FR Doc. 2014-20082 Filed 8-22-14; 8:45 am]

BILLING CODE 8011-01-P